DEPARTMENT OF COMMERCE

National Oceanic and Atmospheric Administration

50 CFR Part 648

[Docket No. 250623-0108; RTID 0648-XE702]

Fisheries of the Northeastern United States; Northeast Multispecies Fishery; 2025 Small-Mesh Multispecies Specifications

AGENCY: National Marine Fisheries Service (NMFS), National Oceanic and Atmospheric Administration (NOAA), Commerce.

ACTION: Final rule.

SUMMARY: NMFS is finalizing specifications for the 2025 small-mesh multispecies fishery, including an annual catch limit (ACL) and total allowable landings (TAL) limit. This action is necessary to fully implement previously projected allowable small-mesh multispecies harvest levels that will prevent overfishing and allow harvesting of optimum yield (OY). This action is intended to establish the allowable 2025 harvest levels, consistent with the Northeast Multispecies Fishery Management Plan (FMP).

DATES: Effective July 28, 2025.

FOR FURTHER INFORMATION CONTACT: Shannah Jaburek, Fishery Policy Analyst, (978) 282-8456.

SUPPLEMENTARY INFORMATION:

Background

The New England Fishery Management Council (Council) manages the small-mesh multispecies fishery within the Northeast Multispecies FMP. The small-mesh multispecies fishery is made up of three species of hakes that are managed as five stocks: (1) Northern and southern silver hake; (2) northern and southern red hake; and (3) offshore hake. Southern silver hake and offshore hake are often grouped together for management purposes and collectively referred to as “southern whiting.” Amendment 19 to the FMP (April 4, 2013, 78 FR 20260) established a process for specifying catch limits for the small-mesh multispecies fishery stocks, including values for an overfishing limit (OFL), acceptable biological catch (ABC), ACL, and TAL. The FMP requires that this specifications process be implemented on an annual basis for up to 3 years at a time with each fishing year running from May 1 through April 30. Prior to the start of fishing year 2024, the Council recommended specifications for the 2024-2026 fishing years (table 1).

The Council's recommendations for the 2024-2026 small-mesh multispecies fishery specifications are based on the most recent assessments of the small-mesh multispecies stocks conducted in September 2023 and the recommendations from the Council's Scientific and Statistical Committee. The southern red hake stock remains under a rebuilding plan established in Framework Adjustment 62 to the Northeast Multispecies FMP (87 FR 3694, January 25, 2022), and we will continue to implement the 25-percent reduction on the Council-recommended ABC in accordance with the rebuilding plan. We continue to maintain the position that we do not anticipate the 25-percent reduction to have a meaningful impact on industry. The fishery has landed approximately 19 percent of the TAL for the 2024 fishing year as of the end of February 2025 and is not anticipated to have substantially higher landings for the remainder of the year based on fishing trends over the last three years.

Table 1—Approved 2024-2026 Small-Mesh Multispecies Specifications
[Metric tons (mt)]
| OFL | ABC | ACL | TAL
Northern Red Hake | Unknown | 3,129 | 2,973 | 1,274
Northern Silver Hake | 79,473 | 40,868 | 38,825 | 31,347
Southern Red Hake | Unknown | ** 1,370 | 1,301 | 234
Southern Whiting * | 35,419 | 20,149 | 19,142 | 13,881
* Southern whiting includes both southern silver hake and offshore hake.
** Includes a 25-percent reduction on the Council-recommended ABC of 1,826 mt in accordance with the rebuilding plan.

On August 29, 2024, NMFS published a final rule implementing the Council-recommended specifications with the required reduction to southern red hake for the 2024 fishing year, effective through April 30, 2025, and projecting the fishery's specifications for 2025 through 2026 (89 FR 70124). At the end of each fishing year, we evaluate catch information and determine if any of the quotas have been exceeded. If a quota is exceeded, the regulations at 50 CFR 648.90(b)(5)(ii) require that in a subsequent year, the in-season adjustment trigger that reduces possession limits be reduced by the same percentage that the ACL was exceeded. In any given year when new specifications are not implemented by May 1, the start of the new fishing year, the previous year's specifications remain in effect until superseded by the final rule implementing the current year's specifications (50 CFR 648.90(b)(1)(iv)(D)).

Specifications for the 2025 Fishing Year

We have reviewed available 2023 and 2024 fishery information against the projected 2025 specifications. At its September 2024 meeting, the Council received the 2023 year-end report and did not make any recommended changes to the 2025 proposed specifications. There have been no quota overages, nor is there any new biological information that would require altering the projected 2025 specifications published in 2024. Based on this information, we are finalizing specifications for fishing year 2025, as projected in the 2024 specifications rule, and outlined above in table 1. These specifications are not expected to result in overfishing and adequately account for scientific uncertainty. NMFS will provide notice of the final 2026 specifications, and any necessary reductions, prior to the start of the 2026 fishing year.

Classification

NMFS is issuing this rule pursuant to the authority at section 305(d) of the Magnuson-Stevens Act, which authorizes the Secretary of Commerce to implement management measures necessary to carry out an approved FMP. Small-mesh multispecies specifications are implemented pursuant to the regulations at 50 CFR 648.90 that were approved and implemented by NMFS in Amendment 19 to the FMP (78 FR 20260; April 4, 2013). The NMFS Assistant Administrator has determined that this final rule is consistent with the Northeast Multispecies FMP, the 2024-2026 small-mesh multispecies specifications, and other applicable law.

This final rule is exempt from review under Executive Order (E.O.) 12866 and from E.O. 14192.

Pursuant to the Administrative Procedure Act (APA) (5 U.S.C. 553(c)) and the process described in the small-mesh multispecies regulations (§ 648.90), NMFS provided the public with the opportunity to comment on the proposed rule to implement 2024-2026 small-mesh multispecies fishery specifications (89 FR 59034; July 22, 2024), which included the projected 2025 specifications that are being reaffirmed through this final rule. We received one comment on the proposed rule that requested we correct the northern red hake TAL to reflect the Council's recommendation and acknowledging our requirement to adjust the southern red hake ABC to meet the requirements of the rebuilding plan. We responded to that comment and made the requested correction in the final rule to implement 2024-2026 small-mesh multispecies specifications (89 FR 70124, August 29, 2024). This final rule contains no changes from the projected 2025 specifications that were included in the August 29, 2024, final rule (89 FR 70124). Through both the proposed rule for the 2024-2026 specifications and the final rule for the 2024 specifications, we alerted the public that we would conduct a review of the latest available catch information in each of the interim years of the multi-year specifications and announce the final quota prior to the May 1 start of the fishing year. Thus, the proposed and final rules that contained the projected 2025 specifications provided a full opportunity for the public to comment on the substance and process of this action. Furthermore, at the September 2024 Council meeting, there was an opportunity for additional public comment following the Whiting Committee report. No comment was received about the proposed 2025 specifications.

The Chief Counsel for Regulation, Department of Commerce, previously certified to the Chief Counsel for Advocacy of the Small Business Administration (SBA) that the 2024-2026 small-mesh multispecies specifications would not have a significant economic impact on a substantial number of small entities. Implementing the 2025 specifications will not change the conclusions drawn in that previous certification to the SBA. No comments were received regarding this prior certification. As a result, no new regulatory flexibility analysis is required and none has been prepared.

This action does not contain a collection of information requirement for purposes of the Paperwork Reduction Act (PRA) (44 U.S.C. 3501 et seq.). NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

Authority: 16 U.S.C. 1801 et seq.

Dated: June 23, 2025.
Samuel D. Rauch III,
Deputy Assistant Administrator for Regulatory Programs, National Marine Fisheries Service.

[FR Doc. 2025-11727 Filed 6-25-25; 8:45 am]

BILLING CODE 3510-22-P